DEPARTMENT OF STATE

[Public Notice: 9332; No. 2014-4 ]

Determination

The Foreign Missions Act (FMA), codified at 22 U.S.C. 4301-4316, authorizes the Secretary of State to approve the terms and conditions on which benefits are provided to foreign missions and to make compliance with those terms and conditions by foreign missions mandatory. 22 U.S.C. 4304(a), (b). Furthermore, the FMA provides that the “[t]erms and conditions established by the Secretary under this section may include . . . a requirement to pay to the Secretary a surcharge or fee.” 22 U.S.C. 4304(c)(1). The FMA also authorizes the Secretary to make any provision of the FMA applicable to international organizations (as defined in 22 U.S.C. 4309(b)) when the Secretary determines that such application is necessary to carry out the policy and objectives set forth in the FMA. 22 U.S.C. 4309(a).

Therefore, pursuant to the authority vested in me by the FMA, in particular, 22 U.S.C. 4304(b), and Delegation of Authority No. 198 of September 16, 1992, I hereby determine that it is reasonably necessary to protect the interests of the United States to require foreign missions and international organizations, and, in each case, their staff members (each a “Beneficiary” and collectively, “Beneficiaries”) to pay a surcharge or fee in instances where a Beneficiary creates resource demands on the Office of Foreign Missions (OFM) by: (1) Requesting the replacement of OFM-issued products; (2) failing to comply with the Department's requirements relating to the acquisition or maintenance of liability insurance, license tags, or title and registration documents for motor vehicles, vessels, and aircraft; or (3) otherwise failing to comply with the terms on which the Department has required Beneficiaries to obtain or forego benefits under the FMA.

The authority to regulate the provision of foreign mission benefits under the FMA has been delegated to the Director of OFM (Delegation of Authority No. 214, October 5, 1994). Therefore, the rates, terms, and conditions associated with the imposition of surcharges or fees authorized herein may be established or revised at the Director's discretion.

Dated: September 22, 2015.
Patrick F. Kennedy,
Under Secretary for Management.

[FR Doc. 2015-27456 Filed 10-27-15; 8:45 am]

BILLING CODE 4710-43-P